ENVIRONMENTAL PROTECTION AGENCY

[EPA-HQ-OPPT-2020-0262; FRL-11605-01-OCSPP]

Agency Information Collection Activities; Proposed Renewal of an Existing ICR Collection and Request for Comment; Reporting and Recordkeeping for Asbestos Abatement Worker Protection

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Reporting and Recordkeeping for Asbestos Abatement Worker Protection,” identified by EPA ICR No. 1246.15 and OMB Control No. 2070-0072. This ICR represents a renewal of an existing ICR that is currently approved through January 31, 2025. Before submitting the ICR to OMB for review and approval under the PRA, EPA is soliciting comments on specific aspects of the information collection that is summarized in this document. The ICR and accompanying material are available in the docket for public review and comment.

DATES: Comments must be received on or before June 24, 2024.

ADDRESSES: Submit your comments, identified by docket identification (ID) number EPA-HQ-OPPT-2020-0262, through http://www.regulations.gov. Follow the online instructions for submitting comments. Do not submit electronically any information you consider to be Confidential Business Information (CBI) or other information whose disclosure is restricted by statute. Additional instructions on commenting or visiting the docket, along with more information about dockets generally, is available at http://www.epa.gov/dockets.

FOR FURTHER INFORMATION CONTACT: Katherine Sleasman, Mission Support Divison (7602M), Office of Program Support, Office of Chemical Safety and Pollution Prevention, Environmental Protection Agency, 1200 Pennsylvania Ave. NW, Washington, DC 20460-0001; telephone number: (202) 566-1206; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Information Collection Activity or ICR does this action apply to?

Title: Reporting and Recordkeeping for Asbestos Abatement Worker Protection.

EPA ICR No.: 1246.15.

OMB Control No.: 2070-0072.

ICR status: This ICR is currently approved through January 31. 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers reporting and recordkeeping requirements associated with EPA's workplace standards for the protection of state and local government employees who work with asbestos and who are not covered by a state plan approved by the Occupational Safety and Health Administration (OSHA). Currently, state and local government employees in 23 states, the District of Columbia (DC), and three additional U.S. territories (DC and the territories are counted as one “state equivalent”) who perform construction work, including building construction, renovation, demolition, and maintenance activities, and employees who perform brake and clutch repair work, are covered by these requirements. EPA's asbestos worker protection regulations incorporate, by reference, the OSHA Construction Industry Standard for Asbestos (29 CFR 1926.1101) and the General Industry Standard for Asbestos (29 CFR 1910.1001). EPA requires state and local government employers to use engineering controls and appropriate work practices to control the release of asbestos fibers. Covered employers must also monitor employee exposure to asbestos and provide employees with personal protective equipment, training, and medical surveillance to reduce the risk of asbestos exposure. Exposure monitoring records must be maintained for 30 years, medical surveillance records for the duration of employment of the affected employees plus 30 years, and training records for the duration of employment plus one year. Employers must also establish written respiratory protection programs and maintain procedures and records of respirator fit tests for one year.

Burden statement: The annual public reporting and recordkeeping burden for this collection of information is estimated to average 0.32 hours per response. Burden is defined in 5 CFR 1320.3(b).

The ICR, which is available in the docket along with other related materials, provides a detailed explanation of the collection activities and the burden estimate that is only briefly summarized here:

Respondents/affected entities: Respondents for this information collection include states and local government employers in the 23 states, DC, and the U.S. territories that have employees engaged in asbestos-related construction, custodial, and brake and clutch repair activities without OSHA-approved state plans. The following North American Industrial Classification System (NAICS) codes have been provided to assist in determining whether this action might apply to certain entities:

• Public Administration (NAICS Code 92), and

• Educational Services (NAICS Code 61.

Respondent's obligation to respond: Mandatory. 40 CFR 763.

Frequency of response: Occasional.

Total estimated number of potential respondents: 34,138.

Total estimated average number of responses for each respondent: 33.

Total estimated annual burden hours: 358,049 hours.

Total estimated annual costs: $19,960,188, which includes an estimated $0 for capital investment or maintenance and operational costs.

III. Are there changes in the estimates from the last approval?

There is an increase in total burden costs of $3.066 million compared with that identified in the ICR currently approved by OMB, which reflects an increase of $10.45, or 23%, to the weighted average wage rate, and an increase of 10,701 in total respondents (state and local entities), reflecting updated numbers of governments from the Census of Governments. These increases are partially offset by a decrease of 46,824 in the total number of responses due to a decrease in the number of states subject to the rule compared with that identified in the ICR currently approved by OMB. There is a decrease in burden hours by 14,920 due to a decrease in estimated number of responses. These changes qualify as adjustments.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 18, 2024.
Michal Freedhoff,
Assistant Administrator, Office of Chemical Safety and Pollution Prevention.

[FR Doc. 2024-08639 Filed 4-22-24; 8:45 am]

BILLING CODE 6560-50-P